FEDERAL COMMUNICATIONS COMMISSION

47 CFR Part 73

[DA 05-2507; MB Docket No.05-130, RM-11216, RM-11265*]

Radio Broadcasting Service; Cheyenne and Thomas, OK

AGENCY: Federal Communications Commission.

ACTION: Final rule.

SUMMARY: The Audio Division, at the request of Roger Mills County Broadcasting in its counterproposal to a petition for rulemaking by Charles Crawford, allots Channel 247C3 at Cheyenne, Oklahoma, as the community's first local aural transmission service. See 70 FR 19403, published April 13, 2005. See also Public Notice, Report No. 2723, RM-11265*, issued July 29, 2005. Channel 247C3 can be allotted to Cheyenne in compliance with the Commission's minimum distance separation requirements. The reference coordinates for Channel 247C3 at Cheyenne are 35-37-25 North Latitude and 99-40-11 West Longitude with a site restriction of 1.1 kilometers (0.7 miles) north of Cheyenne. A filing window for Channel 247C3 at Cheyenne, Oklahoma will not be opened at this time. Instead, the issue of opening a filing window for this channel will be addressed by the Commission in a subsequent order.

DATES: Effective November 10, 2005.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 05-130, adopted September 23, 2005, and released September 26, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Accordingly, FCC amends 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Oklahoma, is amended by adding Cheyenne, Channel 247C3.

Federal Communications Commission.
John A. Karousos,
Assistant Chief, Audio Division, Media Bureau.

[FR Doc. 05-20213 Filed 10-11-05; 8:45 am]

BILLING CODE 6712-01-P